DEPARTMENT OF EDUCATION

[Docket No.: ED-2023-SCC-0138]

Agency Information Collection Activities; Comment Request; Report of Children Receiving Early Intervention Services in Accordance With Part C; Report of Program Settings in Accordance With Part C; Report on Infants and Toddlers Exiting Part C

AGENCY: Office of Special Education and Rehabilitative Services (OSERS), Department of Education (ED).

ACTION: Notice.

SUMMARY: In accordance with the Paperwork Reduction Act (PRA) of 1995, the Department is proposing a revision of a currently approved information collection request (ICR).

DATES: Interested persons are invited to submit comments on or before September 22, 2023.

ADDRESSES: To access and review all the documents related to the information collection listed in this notice, please use http://www.regulations.gov by searching the Docket ID number ED-2023-SCC-0138. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Amy Bae, (202) 987-1557.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of Children Receiving Early Intervention Services in Accordance With Part C; Report of Program Settings in Accordance with Part C; Report on Infants and Toddlers Exiting Part C.

OMB Control Number: 1820-0557.

Type of Review: Revision of a currently approved ICR.

Respondents/Affected Public: State, local, and Tribal governments.

Total Estimated Number of Annual Responses: 56.

Total Estimated Number of Annual Burden Hours: 6,363.

Abstract: This is a request for revision of the approved Information Collection 1820-0557—Report of Children Receiving Early Intervention Services in Accordance With Part C; Report of Program Settings Where Early Intervention Services are Provided to Children With Disabilities and Their Families in Accordance to Part C; Report on Infants and Toddlers Exiting Part C Section 618 of the Individuals with Disabilities Education Act (IDEA), Public Law 108-446, directs the Secretary of Education to obtain data on: (1) the number and percentage of infants and toddlers with disabilities, by race, ethnicity, and gender, who are receiving early intervention services; (2) the number and percentage of infants and toddlers, by race and ethnicity, who are at risk of having substantial developmental delays (as described in Section 632), and who are receiving early intervention services under Part C; and (3) the number and percentage of children with disabilities, by race, ethnicity, and gender, who, from birth through age 2, stopped receiving early intervention services because of program completion or for other reasons. The specific legislative authority for these data collections may be found in Section 618(a)(1)(B), Section 618(a)(1)(C), Section 618(a)(2) and Section 618(a)(3). The purposes of such data are: (1) to assess the progress, impact, and effectiveness of State and local efforts to implement the legislation and (2) to provide Congress, the public, and Federal, State, and local educational agencies with relevant information. OSEP also uses these data for monitoring activities, planning purposes, congressional reporting, and disseminating data to individuals and groups.

Dated: July 18, 2023.
Kun Mullan,
PRA Coordinator, Strategic Collections and Clearance, Governance and Strategy Division, Office of Chief Data Officer, Office of Planning, Evaluation and Policy Development.

[FR Doc. 2023-15564 Filed 7-21-23; 8:45 am]

BILLING CODE 4000-01-P